DEPARTMENT OF HEALTH AND HUMAN SERVICES

National Institutes of Health

Center for Scientific Review; Amended Notice of Meeting

Notice is hereby given of a change in the meeting of the Center for Scientific Review Special Emphasis Panel, Topics in Bacterial Pathogenesis, March 30, 2020, 8:00 a.m. to March 31, 2020 6:00 p.m., at the Residence Inn Bethesda, 735 Wisconsin Avenue, Bethesda, MD which was published in the Federal Register on March 09, 2020, 85 FR 13668.

The meeting location is being changed to National Institutes of Health, 6701 Rockledge Drive, Bethesda, MD 20892. Meeting dates and time remain the same. The meeting is closed to the public.

Dated: March 11, 2020.
Ronald J. Livingston, Jr.,
Program Analyst, Office of Federal Advisory Committee Policy.

[FR Doc. 2020-05428 Filed 3-16-20; 8:45 am]

BILLING CODE 4140-01-P